DEPARTMENT OF TRANSPORTATION

Federal Aviation Administration

14 CFR Part 39

[Docket No. 2001-SW-20-AD; Amendment 39-12680; AD 2002-06-04]

RIN 2120-AA64

Airworthiness Directives; Eurocopter France Model AS350B, AS350B1, AS350B2, AS350B3, AS350BA, AS350C, AS350D, AS350D1, AS355E, AS355F, AS355F1, AS355F2, and AS355N Helicopters

AGENCY: Federal Aviation Administration, DOT.

ACTION: Final rule.

SUMMARY: This amendment adopts a new airworthiness directive (AD) for specified Eurocopter France (ECF) helicopters that requires replacing the tail rotor hub pitch change plate “SNR” bearing (bearing). This amendment is prompted by fatigue cracks found in the bearings. The actions specified by this AD are intended to prevent seizure of the bearing, loss of tail rotor effectiveness, and subsequent loss of control of the helicopter.

DATES: Effective April 24, 2002.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: A proposal to amend 14 CFR part 39 to include an AD for ECF Model AS350B, AS350B1, AS350B2, AS350B3, AS350BA, AS350C, AS350D, AS350D1, AS355E, AS355F, AS355F1, AS355F2, and AS355N helicopters was published in the Federal Register on November 28, 2001 (66 FR 59375). That action proposed replacing each bearing with an airworthy bearing at specified intervals. Also, that action noted that transferring a bearing from one model to another is permissible by complying with the transfer rules described in the Master Servicing Recommendations Chapter 05.99.

Interested persons have been afforded an opportunity to participate in the making of this amendment. No comments were received on the proposal or the FAA's determination of the cost to the public. The FAA has determined that air safety and the public interest require the adoption of the rule as proposed.

The FAA estimates that 514 helicopters of U.S. registry will be affected by this AD, that it will take approximately 5 work hours per helicopter to accomplish the required actions, and that the average labor rate is $60 per work hour. Required parts will cost approximately $90 per helicopter. Based on these figures, the total cost impact of the AD on U.S. operators is estimated to be $200,460.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-06-04 Eurocopter France: Amendment 39-12680. Docket No. 2001-SW-20-AD.

Applicability: Model AS350B, AS350B1, AS350B2, AS350B3, AS350BA, AS350C, AS350D, AS350D1, AS355E, AS355F, AS355F1, AS355F2, and AS355N helicopters, with tail rotor hub pitch change plate “SNR” bearing (bearing) part number (P/N) 6010F234M16 (Eurocopter France P/N 704A33-651-190), installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent seizure of the bearing, loss of tail rotor effectiveness, and subsequent loss of control of the helicopter, accomplish the following:

(a) For Model AS350B3 and AS355N helicopters, replace each bearing with an airworthy bearing as follows:

(1) Within 30 hours time-in-service (TIS) for each bearing that has 270 or more hours TIS as of the effective date of this AD.

(2) Before reaching 300 hours TIS for each bearing that has less than 270 hours TIS as of the effective date of this AD.

(3) Thereafter, replace each bearing at intervals not to exceed 300 hours TIS.

(b) For all other Model AS350 or AS355 helicopters, replace each bearing with an airworthy bearing as follows:

(1) Within 50 hours TIS for each bearing that has 1150 hours or more TIS as of the effective date of this AD.

(2) Before reaching 1200 hours TIS for each bearing that has less than 1150 hours TIS as of the effective date of this AD.

(3) Thereafter, replace each bearing at intervals not to exceed 1200 hours TIS.

Note 2: Eurocopter France Alert Telex Nos. 01.00.46 and 01.00.48, both dated February 22, 2001, pertain to the subject of this AD.

(c) When transferring a bearing from one model helicopter to another (refer to the equipment log card), adhere to the transfer rules described in the applicable master servicing recommendations. Remove each bearing from service at or before the service life limits given in paragraphs (a)(3) and (b)(3) of this AD.

Note 3: The Master Servicing Recommendations for the affected helicopters, Chapter 05.99, pertain to the subject of this AD.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 4: Information concerning the existence of approved alternative methods of compliance with this AD, if any, may be obtained from the Regulations Group.

(e) Special flight permits may be issued in accordance with 14 CFR 21.197 and 21.199 to operate the helicopter to a location where the requirements of this AD can be accomplished.

Note 5: The subject of this AD is addressed in Direction Generale De L'Aviation Civile (France) AD Nos. 2001-073-061(A) and 2001-074-081(A), both dated March 21, 2001.

(f) This amendment becomes effective on April 4, 2002.

Issued in Fort Worth, Texas, on March 11, 2002.
David A. Downey,
Manager, Rotorcraft Directorate, Aircraft Certification Service.

[FR Doc. 02-6626 Filed 3-19-02; 8:45 am]

BILLING CODE 4910-13-U